DEPARTMENT OF TRANSPORTATION

Federal Aviation Administration

Public Notice for Waiver for Aeronautical Land-Use Assurance at El Paso International Airport, El Paso, Texas

AGENCY: Federal Aviation Administration (FAA) DOT.

ACTION: Notice of intent for waiver of aeronautical land-use.

SUMMARY: The Federal Aviation Administration is considering a proposal to change a portion of the airport from aeronautical to nonaeronautical use and to authorize the conversion of the airport property. The proposal consists of one parcel of land containing a total of approximately 1,179.25 acres. Ownership of the associated property transferred land from the United States of America To the city of El Paso under the Surplus Property Act of 1944 on July 8, 1969. The land comprising this parcel is outside the forecasted need for aviation development and, thus, is no longer needed for indirect or direct aeronautical use. The income from the conversion of this parcel will benefit the aviation community by reinvestment into the airport.

Approval does not constitute a commitment by the FAA to financially assist in the conversion of the subject airport property nor a determination of eligibility for grant-in-aid funding from the FAA. The disposition of proceeds from the conversion of the airport property will be in accordance with FAA's policy and Procedures Concerning the Use of Airport Revenue, published in the Federal Register on February 16, 1999. In accordance with Section 47107(h) of Title 49, United States Code, this notice is required in the Federal Register 30 days before modifying the land-use assurance that requires the property to be used for an aeronautical purpose.

DATES: Comments must be received on or before January 11, 2021.

ADDRESSES: Send comments on this document to Mr. Jesse Carriger, Federal Aviation Administration, Manager, Texas Airports Development office, 10101 Hillwood Parkway, Fort Worth, TX 76177.

FOR FURTHER INFORMATION CONTACT: Mr. Sam Rodriquez, Director of Aviation El Paso International Airport, 6701 Convair Road, El Paso, Texas 79925, Ms. Sarah Conner Program Manager, Federal Aviation Administration, Texas Airports Development Office, ASW-650, 10101 Hillwood Parkway, Fort Worth, Texas 76177, telephone (817) 222-5682. Documents reflecting this FAA action may be reviewed at the above locations.

Issued in Fort Worth, Texas, on December 11, 2020.
Ignacio Flores,
Manager, Airports Division, FAA, Southwest Region.

[FR Doc. 2020-27688 Filed 12-15-20; 8:45 am]

BILLING CODE 4910-13-P